DEPARTMENT OF TRANSPORTATION

Federal Aviation Administration

Proposed Advisory Circular 20-27F, Certification and Operation of Amateur-Built Aircraft

AGENCY: Federal Aviation Administration (FAA), DOT.

ACTION: Notice.

SUMMARY: This notice announces the availability of proposed Advisory Circular (AC) 20-27F, Certification and Operation of Amateur-Built Aircraft for review and comment.

The proposed AC is written in plain language in an effort to keep this guidance simple and easy to understand. No guidance material changed during the rewrite of this document.

DATES: Comments submitted must identify the proposed AC 20-27F and be received by September 5, 2003.

ADDRESSES: Copies of the proposed AC 20-27F can be obtained from and comments may be returned to the following: Federal Aviation Administration, Production and Airworthiness Division, AIR-200, Room 815, 800 Independence Avenue, SW., Washington, DC 20591.

FOR FURTHER INFORMATION CONTACT: Rodney Watson, Airworthiness Certification Branch, AIR-220, Production and Airworthiness Division, Room 815, Aircraft Certification Service, Federal Aviation Administration, 800 Independence Avenue, SW., Washington, DC 20591, (202) 267-8361.

SUPPLEMENTARY INFORMATION:

Background

The proposed AC 20-27F provides information and guidance on the fabrication and assembly, airworthiness certification, and operation of amateur-built aircraft of all types; explains the amount of fabrication and assembly the builder must accomplish for the aircraft to be eligible for amateur-built certification; and describes the role of the FAA in the certification process.

Interested persons are invited to comment on the proposed AC 20-27F listed in this notice by submitting such written data, views, or arguments as they desire to the aforementioned specified address. All comments received on or before the closing date for comments specified above will be considered by the Director, Aircraft Certification Service, before issuing the final AC.

Comments received on the proposed AC 20-27F may be examined before and after the comment closing date in Room 815, FAA headquarters building (FOB-10A), 800 Independence Avenue, SW., Washington, DC 20591, between 8:30 a.m. and 4:30 a.m.

Issued in Washington, DC on August 1, 2003.
Frank P. Paskiewicz,
Manager, Production and Airworthiness Division, AIR-200.

[FR Doc. 03-20409 Filed 8-8-03; 8:45 am]

BILLING CODE 4910-13—M